DEPARTMENT OF COMMERCE

Foreign-Trade Zones Board

[Order No. 1115]

Expansion of Foreign-Trade Zone 84 Houston, TX

Pursuant to its authority under the Foreign-Trade Zones Act of June 18, 1934, as amended (19 U.S.C. 81a-81u), the Foreign-Trade Zones Board (the Board) adopts the following Order:

Whereas, the Port of Houston Authority, grantee of Foreign-Trade Zone 84 (Houston, Texas), submitted an application to the Board for authority to expand FTZ 84 to include the jet fuel storage and distribution system at Houston's George Bush Intercontinental Airport (22 acres) in Houston, Texas (Site 14), within the Houston Customs port of entry (FTZ Docket 58-99; filed 11/17/99);

Whereas, notice inviting public comment was given in the Federal Register (64 FR 66879, 11/30/99) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 84 is approved, subject to the Act and the Board's regulations, including § 400.28.

Signed at Washington, DC, this 24th day of August 2000.
Troy H. Cribb,
Acting Assistant Secretary of Commerce for Import Administration, Alternate Chairman, Foreign-Trade Zones Board.
Dennis Puccinelli,
Executive Secretary.

[FR Doc. 00-23002 Filed 9-6-00; 8:45 am]

BILLING CODE 3510-DS-P